DEPARTMENT OF STATE

[Public Notice 6617]

In the Matter of the Designation of Revolutionary Struggle aka Epanastatikos Aghonas as a Foreign Terrorist Organization Pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Revolutionary Struggle (aka Epanastatikos Aghonas).

Therefore, I hereby designate that organization and its alias as a foreign terrorist organization pursuant to section 219 of the INA.

This determination shall be published in the Federal Register.

Dated: April 29, 2009.
Hillary Rodham Clinton,
Secretary of State, Department of State.

[FR Doc. E9-11546 Filed 5-15-09; 8:45 am]

BILLING CODE 4710-10-P